Title 3—

The President

Proclamation 9627 of July 17, 2017

Made in America Day and Made in America Week, 2017

By the President of the United States of America

A Proclamation

Today, we mark the first Made in America Day and recognize the vital contributions of American workers and job creators to our Nation's prosperity and strength. America owes much of its success to the determination and ingenuity of its entrepreneurs, workers, and farmers, who drive our economy and support our military strength.

American work ethic and quality craftsmanship are the heart and soul of our Nation. We are a Nation of innovators, builders, and farmers. We construct architectural wonders like the Golden Gate Bridge and the New York skyline. We feed the Nation and the world with agricultural products like American wheat, corn, and beef. We drive technological innovation, like the internet and the Global Positioning System, from visions to realities.

My Administration recognizes the critical connection between a strong manufacturing base and a thriving economy. I am committed to promoting American manufacturing, opening markets around the world for our producers, and protecting our businesses from unfair trade practices. And I am reducing job-killing regulations and cutting taxes, making it more attractive than ever to do business in the United States.

NOW, THEREFORE, I, DONALD J. TRUMP, President of the United States of America, by virtue of the authority vested in me by the Constitution and the laws of the United States, do hereby proclaim July 17, 2017, as Made in America Day and this week, July 16 through July 22, as Made in America Week. Today and this week, I call upon Americans to pay special tribute to the builders, to the ranchers, to the crafters, and to all those who work every day to make America great.

IN WITNESS WHEREOF, I have hereunto set my hand this seventeenth day of July, in the year of our Lord two thousand seventeen, and of the Independence of the United States of America the two hundred and forty-second.

[FR Doc. 2017-15440

Filed 7-19-17; 11:15 am]

Billing code 3295-F7-P